DEPARTMENT OF ENERGY

Federal Energy Regulatory Commission

[Docket No. CP00-404-000

Texas Eastern Transmission Corporation; Notice of Intent To Prepare an Environmental Assessment for the Proposed Columbia Liberty Project, Request for Comments on Environmental Issues, and Notice of Site Visit

September 13, 2000.

The staff of the Federal Energy Regulatory Commission (FERC or Commission) will prepare an environmental assessment (EA) that will discuss the environmental impacts of the Columbia Liberty Project involving construction and operation of facilities by Texas Eastern Transmission Corporation (Texas Eastern) in Chester and Delaware Counties, Pennsylvania.¹ Texas Eastern proposes to expand its existing Philadelphia Lateral System to supply 84,000 dekatherms per day of natural gas to the Columbia Liberty Plant, a 567.7 megawatt gas-fired electric power plant presently being constructed in the Borough of Eddysburg in Delaware County, Pennsylvania.

¹ Texas Eastern's application was filed with the Commission on July 13, 2000, under Section 7 of the Natural Gas Act and Part 157 of the Commission's regulations.

If you are a landowner on Texas Eastern's existing or proposed route and receive this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

A fact sheet prepared by FERC entitled “An Interstate Gas Facility On My Land? What Do I Need To Know?” was attached to the project notice Texas Eastern provided to landowners. This fact sheet addresses a number of typically asked questions, including the use of eminent domain. It is available for viewing on the FERC Internet website (www.ferc.fed.us).

This Notice of Intent (NOI) is being sent to landowners along Texas Eastern's existing and proposed routes; Federal, state, and local government agencies; elected officials; regional environmental, and public interest groups Indian tribes that might attach religious and cultural significance to historic properties in the area of potential effects; local libraries and newspapers; and the Commission's service list and parties to the proceeding. Government representatives are encouraged to notify their constituents of this proposed action and encourage them to comment on their areas of concern. Additionally, with this NOI we are asking Federal, state, local, and tribal agencies with jurisdiction and/or special expertise with respect to environmental issues to cooperate with us in the preparation of the EA. These agencies may choose to participate once they have evaluated Texas Eastern's proposal relative to their agencies' responsibilities. Agencies who would like to request cooperating status should follow the instructions for filing comments described below.

Summary of the Proposed Project

Texas Eastern proposed to install one 4,000 horsepower electric compressor at its existing Eagle Compressor Station; to replace various segments of its existing 20-inch-diameter Line No. 1-A; and to construction about 0.6 mile of 12-inch-diameter pipeline and associated metering facilities to connect with the Columbia Liberty Plant. To supply the required volumes to the power plant Texas Eastern proposes to increase the operating pressure of Line No. 1-A from 400 pounds per square inch gauge (psig) to 656 psig.

The general location of Texas Eastern's proposed facilities is shown on the map attached as appendix 1.²

² The appendices referenced in this notice are not being printed in the Federal Register. Copies are available on the Commission's website at the “RIMS” link or from the Commission's Public Reference and Files Maintenance Branch, 888 First Street, NE, Room 2A, Washington, DC 20426, or call (202) 208-1371. For instructions on connecting to RIMS refer to the last page of this notice. Copies of the appendices were sent to all those receiving this notice in the mail.

Land Requirements for Construction

Construction of the Texas Eastern's proposed facilities would affect about 39.3 acres of land. Texas Eastern proposes to use 10.4 acres for construction of the new Liberty Lateral and 28.9 acres for replacing segments on Line 1-A. Following construction, about 3.5 acres would be retained as new permanent right-of-way for the new pipeline facilities. The remaining 35.8 acres of temporary work space would be restored and allowed to revert to its former use.

The EA Process

The National Environmental Policy Act (NEPA) requires the Commission to take into account the environmental impacts that could result from an action whenever it considers the issuance of a Certificate of Public Convenience and Necessity. NEPA also requires us ³ to discover and address concerns the public may have about proposals. We call this “scoping.” The main goal of the scoping process is to focus the analysis in the EA on the important environmental issues. By this NOI, the Commission requests public comments on the scope of the issues it will address in the EA. All comments received are considered during the preparation of the EA.

³ “Us,” “we,” and “our” refer to the environment staff of the FERC's Office of Pipeline Regulation.

Our independent analysis of the issues will be in the EA. Depending on the comments received during the scoping process, the EA may be published and mailed to Federal, state, and local agencies, elected officials, affected landowners, regional public interest groups, Indian tribes, local newspapers and libraries, and the Commission's official service list for this proceeding. A comment period will be alloted for review if the EA is published. We will consider all comments on the EA before we make our recommendations to the Commission.

Currently Identified Environmental Issues

The EA will discuss impacts that could occur as a result of construction and operation of the proposed project. We have already identified a number of issues that we think deserve attention based on a preliminary review of the proposed facilities and the environmental information provided by Texas Eastern. This preliminary list of issues may be changed based on your comments and our analysis.

• Biological Resources—Impacts on the bog turtle, a Federally listed endangered species.

• Land Use—Impacts to residents within 50 feet of construction.

• Noise—Affects from the addition of a 4,000 horsepower compressor unit.

Public Participation and Site Visit

You can make a difference by providing us with your specific comments or concerns about the project. By becoming a commentor, your concerns will be addressed in the EA and considered by the Commission. You should focus on the potential environmental effects of the proposal, alternatives to the proposal (including alternative locations or routes), and measures to avoid or lessen environmental impact. The more specific your comments, the more useful they will be. Please carefully follow these instructions to ensure that your comments are received in time and properly recorded:

• Send two copies of your letter to: David P. Boergers, Secretary, Federal Energy Regulatory Commission, 888 First St., NE., Room 1A, Washington, DC 20426;

• Label one copy of the comments for the attention of the Gas Group 1, PJ-11.1;

• Reference Docket No. CP00-404-000; and

• Mail your comments so that they will be received in Washington, DC on or before October 13, 2000.

[If you do not want to send comments at this time but still want to remain on our mailing list, please return the Information Request (appendix 3). If you do not return the Information Request, you may be removed from the environmental mailing list.]

On September 29, 2000, the Office of Energy Projects staff will conduct a precertification site visit of the project route and possible reroutes. All parties may attend. Those planning to attend must provide their own transportation. We will be meeting in the parking lot at the Ramada Inn in Essington at 8:30 am.

For further information on attending the site visit, please contact the Commission's Office of External Affairs at (202) 208-0004.

Becoming an Intervenor

In addition to involvement in the EA scoping process, you may want to become an official party to the proceeding known as an “intervenor.” Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to Rule 214 of the Commission's Rules of Practice and Procedure (18 CFR 385.214) (see appendix 2). Only intervenors have the right to seek rehearing of the Commission's decision.

Affected landowners and parties with environmental concerns may be granted intervenor status upon showing good cause by stating that they have a clear and direct interest in this proceeding which would not be adequately represented by any other parties. You do not need intervenor status to have your environmental comments considered.

Additional information about the proposed project is available from the Commission's Office of External Affairs at (202) 208-0004 or on the FERC website (www.ferc.fed.us) using the “RIMS” link to information in this docket number. Click on the “RIMS” link, select “Docket #” from the RIMS Menu, and follow the instructions. For assistance with access to RIMS, the RIMS helpline can be reached at (202) 208-2222.

Similarly, the “CIPS” link on the FERC Internet website provides access to the texts of formal documents issued by the Commission, such as orders, notices, and rulemakings. From the FERC Internet website, click on the “CIPS” link, select “Docket #” from the CIPS menu, and follow the instructions. For assistance with access to CIPS, the CIPS helpline can be reached at (202) 208-2474.

Linwood A. Watson, Jr.,
Acting Secretary.

[FR Doc. 00-23976 Filed 9-18-00; 8:45 am]

BILLING CODE 6717-01-M